DEPARTMENT OF COMMERCE

National Oceanic and Atmospheric Administration

RIN 0648-XD564

Caribbean Fishery Management Council (CFMC); Public Meeting

AGENCY: National Marine Fisheries Service (NMFS), National Oceanic and Atmospheric Administration (NOAA), Commerce.

ACTION: Notice of public meeting via webinar.

SUMMARY: The Caribbean Fishery Management Council's (Council) Scientific and Statistical Committee (SSC) will hold a meeting via webinar.

DATES: The SSC meeting via webinar will be held on November 12, 2014, from 9 a.m. to 5 p.m.

ADDRESSES: The address to access the SSC meeting via webinar is: https://global.gotomeeting.com/join/978083813. Use your microphone and speakers (VOIP) for audio. You can also join through your smartphone by dialing 1 (408) 650-3131. Access code: 978-083-813, Audio Pin: Will be provided upon joining the session.

SUPPLEMENTARY INFORMATION: The SSC will discuss the items contained in the following agenda:

• FMUs ACL Overages—SERO Update

• Red Hind SEDAR 35 Assessment Review

1. Peer Review and Discussion

2. Recommendations to the CFMC

• National SSC V (February 23-25, 2015): Update and Discussion

• Discussion of 5-year Research Plan

• Selection Criteria for Exclusion/Inclusion of Species in the Island-Based FMPs

A. Commercial Landings Data—SEFSC Update

1. Overview of Recent Years Landings Data: Species List Ranked by Poundage and Value—Puerto Rico, St. Thomas/St. John, St. Croix

2. Landings by Coast for Puerto Rico, as a Proxy to Differentiate Species that Might be Restricted to the State Waters

3. SEFSC/DNER Revision of the 2005 East Coast Correction Factor Update

B. Recreational Landings Data—SEFSC Update

1. Overview of Recent Years Landings Data: Species List Ranked by Poundage

C. Recommendations to the CFMC

The SSC meeting via webinar is open to the public, and will be conducted in English.

Special Accommodations

This meeting via webinar is accessible to people with disabilities. For more information please contact Mr. Miguel A. Rolón, Executive Director, Caribbean Fishery Management Council, 270 Muñoz Rivera Avenue, Suite 401, San Juan, Puerto Rico, 00918, telephone: (787) 766-5926, at least 5 days prior to the meeting date.

Dated: October 15, 2014.
Tracey L. Thompson,
Acting Deputy Director, Office of Sustainable Fisheries, National Marine Fisheries Service.

[FR Doc. 2014-24855 Filed 10-17-14; 8:45 am]

BILLING CODE 3510-22-P